ENVIRONMENTAL PROTECTION AGENCY

[EPA-HQ-OPP-2014-0009; FRL-9921-02]

Pesticide Product Registrations; Receipt of Applications for New Active Ingredients

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before February 20, 2015.

ADDRESSES: Submit your comments, identified by the docket identification (ID) number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Jennifer McLain, Antimicrobials Division (AD) (7510P), main telephone number: (703) 305-7090, email address: ADFRNotices@epa.gov; or Robert McNally, Biopesticides and Pollution Prevention Division (BPPD) (7511P), main telephone number: (703) 305-7090, email address: BPPDFRNotices@epa.gov. The mailing address for each contact person is: Office of Pesticide Programs, Environmental Protection Agency, 1200 Pennsylvania Ave. NW., Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by EPA on these applications.

1. File Symbol: 52991-GN. Docket ID number: EPA-HQ-OPP-2014-0843. Applicant: Bedoukian Research, Inc., 21 Finance Dr., Danbury, CT 06810. Product name: Bedoukian Serricornin Technical Pheromone. Active ingredient: Pheromone/Insecticide—Serricornin at 63%. Proposed use: Mating disruption pheromone to control cigarette beetles (Lasioderma serricorne). Contact: BPPD.

2. File Symbol: 53575-UL. Docket ID number: EPA-HQ-OPP-2014-0892. Applicant: Pacific Biocontrol Corporation, 575 Viewridge Dr., Angwin, CA 94508. Product name: Isomate® FBW Ring. Active ingredient: Straight-chain lepidopteran pheromone (SCLP)—(E,E)-8,10-Dodecadien-1-yl acetate at 88.93%. Proposed use: Mating disruptant for the Filbertworm (Cydia latiferreana) in pome fruits, pomegranates, and tree nut crops (e.g., hazelnuts). Contact: BPPD.

3. File Symbol: 69553-L. Docket ID number: EPA-HQ-OPP-2014-0559. Applicant: SciReg Inc., 12733 Director's Loop, Woodbridge, VA 22192 (on behalf of Andermatt Biocontrol AG, Stahlermatten 6 CH-6146, Grossdietwil, Switzerland). Product name: Rhizovital 42. Active ingredient: Fungicide—Bacillus amyloliquefaciens strain FZB42 at 50%. Proposed use: For use against soil-borne diseases on all food commodities, ornamentals, and turf. Contact: BPPD.

4. File Symbol: 71840-RA. Docket ID number: EPA-HQ-OPP-2014-0520. Applicant: BASF Corporation, 26 Davis Dr., Research Triangle Drive, NC 27709. Product name: BroadBand™. Active ingredient: Insecticide and miticide—Beauveria bassiana strain PPRI 5339 at 4.3%. Proposed use: For control of aphids, mites, thrips, and whitefly in or on fruits, herbs, nuts, ornamentals, and vegetables grown in greenhouses and glasshouses. Contact: BPPD.

5. File Symbol: 71840-RL. Docket ID number: EPA-HQ-OPP-2012-0962. Applicant: BASF Corporation, 26 Davis Dr., Research Triangle Drive, NC 27709. Product name: Trichoderma asperelloides strain JM41R Technical. Active ingredient: Fungicide—Trichoderma asperelloides strain JM41R at 100.0%. Proposed use: For manufacturing of Trichoderma asperelloides strain JM41R pesticide products. Note: In the Federal Register of January 16, 2013 (78 FR 3422) (FRL-9375-6), EPA announced receipt of this application to register a pesticide product containing the active ingredient Trichoderma fertile strain JM41R. Since that time, the applicant provided additional data on the identity of the active ingredient in this pesticide product to EPA. After reviewing these data, EPA now considers the correct identity of the active ingredient in this pesticide product to be Trichoderma asperelloides strain JM41R and not Trichoderma fertile strain JM41R. In order to give the public an opportunity to comment on this new information, EPA is republishing its receipt of this application with an updated and accurate description. Contact: BPPD.

6. File Symbol: 71840-RT. Docket ID number: EPA-HQ-OPP-2014-0520. Applicant: BASF Corporation, 26 Davis Dr., Research Triangle Drive, NC 27709. Product name: Beauveria bassiana strain PPRI 5339 Technical. Active ingredient: Insecticide and miticide—Beauveria bassiana strain PPRI 5339 at 96.0%. Proposed use: For manufacturing of Beauveria bassiana strain PPRI 5339 pesticide products. Contact: BPPD.

7. File Symbol: 71840-RU. Docket ID number: EPA-HQ-OPP-2012-0962. Applicant: BASF Corporation, 26 Davis Dr., Research Triangle Drive, NC 27709. Product name: TrichoPlus™ Biofungicide. Active ingredient: Fungicide—Trichoderma asperelloides strain JM41R at 5.5%. Proposed use: For control of diseases (e.g., Sclerotinia and Fusarium) found in soil and growing media that is used in greenhouses. Note: In the Federal Register of January 16, 2013 (78 FR 3422) (FRL-9375-6), EPA announced receipt of this application to register a pesticide product containing the active ingredient Trichoderma fertile strain JM41R. Since that time, the applicant provided additional data on the identity of the active ingredient in this pesticide product to EPA. After reviewing these data, EPA now considers the correct identity of the active ingredient in this pesticide product to be Trichoderma asperelloides strain JM41R and not Trichoderma fertile strain JM41R. In order to give the public an opportunity to comment on this new information, EPA is republishing its receipt of this application with an updated and accurate description. Contact: BPPD.

8. File Symbol: 84059-EA. Docket ID number: EPA-HQ-OPP-2014-0901. Applicant: Marrone Bio Innovations, 2121 Second St., Suite B-107, Davis, CA 95618. Product name: MBI-601 EP. Active ingredient: Nematicide and fungicide—Sterile grain inoculated with Muscodor albus strain SA-13 at 100%. Proposed use: For control of nematodes and soil-borne diseases in agricultural and home garden soils. Contact: BPPD.

9. File Symbol: 90457-R. Docket ID number: EPA-HQ-OPP-2014-0721. Applicant: Reactive Surfaces, LTD., LLP, 300 West Ave., Suite 1316, Austin, TX 78701. Product name: ProteCoat. Active ingredient: Antimicrobial—AMP-7 Peptide at 80.85%. Proposed use: To protect materials or substances from microbial deterioration or discoloration. Contact: AD.

10. File Symbol: 90809-E. Docket ID number: EPA-HQ-OPP-2014-0897. Applicant: Technology Sciences Group, Inc., 712 Fifth St., Suite A, Davis, CA 95616 (on behalf of EctoPharma Ltd., Dunsdale Rd., Selkirk, TD7 5EB, United Kingdom). Product name: Biodiol™ Bioinsecticide. Active ingredient: Insecticide—1,2-Octanediol at 20.00%. Proposed Use: For use on growing crops and plants in agricultural, non-agricultural, and residential use sites to control chewing, biting, and sucking insect pests. Contact: BPPD.

11. File Symbol: 90809-R. Docket ID number: EPA-HQ-OPP-2014-0897. Applicant: Technology Sciences Group, Inc., 712 Fifth St., Suite A, Davis, CA 95616 (on behalf of EctoPharma Ltd., Dunsdale Rd., Selkirk, TD7 5EB, United Kingdom). Product name: 1,2-Octanediol Technical. Active ingredient: Insecticide—1,2-Octanediol at 100.0%. Proposed use: For manufacturing of 1,2-Octanediol pesticide products. Contact: BPPD.

Authority: 7 U.S.C. 136 et seq.

Dated: January 9, 2015.
Robert McNally,
Director, Biopesticides and Pollution Prevention Division, Office of Pesticide Programs.

[FR Doc. 2015-00862 Filed 1-20-15; 8:45 am]

BILLING CODE 6560-50-P